DEPARTMENT OF HOMELAND SECURITY

8 CFR Part 106

[CIS No. 2801-25; DHS Docket No. USCIS 2021-0010]

RIN 1615-AC68

U.S. Citizenship and Immigration Services Fee Schedule and Changes to Certain Other Immigration Benefit Request Requirements; Second Correction

AGENCY: U.S. Citizenship and Immigration Services (USCIS), Department of Homeland Security (DHS).

ACTION: Correcting amendment.

SUMMARY: On January 31, 2024, the Department of Homeland Security (DHS) published a final rule to adjust certain immigration and naturalization benefit request fees charged by USCIS, add fee exemptions, and make changes to certain other immigration benefit request requirements. The rule took effect on April 1, 2024. In this notice, we are correcting a technical error made in that rule.

DATES: This correcting amendment is effective January 17, 2025.

FOR FURTHER INFORMATION CONTACT: Carol Cribbs, Deputy Chief Financial Officer, U.S. Citizenship and Immigration Services, Department of Homeland Security, 5900 Capital Gateway Dr., Camp Springs, MD 20746; telephone 240-721-3000 (this is not a toll-free number).

SUPPLEMENTARY INFORMATION:

Background

On January 31, 2024, the Department of Homeland Security (DHS) published a final rule in the Federal Register at 89 FR 6194 changing immigration and naturalization benefit request fees charged by U.S. Citizenship and Immigration Services (USCIS), fee exemptions and fee waiver requirements, premium processing time limits, and intercountry adoption processing. DHS published a correction to the final rule at 89 FR 20101 on March 24, 2024. DHS has identified an error in the regulatory text.

Need for Correction

As codified by DHS in the final rule, 8 CFR 106.3(a)(3)(ii)(A) erroneously associates the E-2C classification with Form I-129CW. Petitioners for E-2C classification do not submit Form I-129CW. Form I-129CW petitioners may request a fee waiver when petitioning for a CW-1, CNMI-only transitional worker (see 8 CFR 214.2(w)), but the fee waiver provision as codified does not include a CW-1, CNMI-only transitional worker. Therefore, this notice corrects that error by removing “E-2 CNMI investor” and replacing it with “CW-1, CNMI-only transitional worker” in the first sentence of 8 CFR 106.3(a)(3)(ii)(A) to include the correct nonimmigrant classification. DHS is correcting the second sentence of 8 CFR 106.3(a)(3)(ii)(A) by removing “a E-2 CNMI investor” and replacing it with “an employer petitioning for a CW-1, CNMI-only transitional worker,” to clarify that the employer petitioning for a CW-1, CNMI-only transitional worker must pay any fees in 8 CFR 106.2(c) that may apply, not an E-2 CNMI investor.

List of Subjects in 8 CFR Part 106

Citizenship and naturalization, Fees, Immigration.

Correction

Accordingly, for the reasons set out in the preamble, chapter I of title 8 of the Code of Federal Regulations is corrected by making the following correcting amendment:

PART 106—USCIS FEE SCHEDULE

1. The authority citation for part 106 continues to read as follows:

Authority: 8 U.S.C. 1101, 1103, 1254a, 1254b, 1304, 1356; Pub. L. 107-609; 48 U.S.C. 1806; Pub. L. 107-296, 116 Stat. 2135 (6 U.S.C. 101 note); Pub. L. 115-218, 132 Stat. 1547; Pub. L. 116-159, 134 Stat. 709.

2. Section 106.3 is amended by revising paragraph (a)(3)(ii)(A) to read as follows:

§ 106.3 Fee waivers and exemptions.

(a) * * *

(3) * * *

(ii) * * *

(A) Petition for a CNMI-Only Nonimmigrant Transitional Worker (Form I-129CW) for a CW-1, CNMI-only transitional worker. Waiver of the fee for Form I-129CW does not waive the requirement for an employer petitioning for a CW-1, CNMI-only transitional worker to pay any fees in § 106.2(c) that may apply.

* * * * *

Christina E. McDonald,
Associate General Counsel for Regulatory Affairs.

[FR Doc. 2025-01386 Filed 1-16-25; 8:45 am]

BILLING CODE 9111-97-P